DEPARTMENT OF DEFENSE

GENERAL SERVICES ADMINISTRATION

NATIONAL AERONAUTICS AND SPACE ADMINISTRATION

[OMB Control No. 9000-0056; Docket 2012-0076; Sequence 53]

Federal Acquisition Regulation; Information Collection; Report of Shipment

AGENCIES: Department of Defense (DOD), General Services Administration (GSA), and National Aeronautics and Space Administration (NASA).

ACTION: Notice of request for public comments regarding an extension of a previously existing OMB clearance.

SUMMARY: Under the provisions of the Paperwork Reduction Act, the Regulatory Secretariat will be submitting to the Office of Management and Budget (OMB) a request to review and approve an extension of a previously approved information collection requirement concerning report of shipment.

DATES: Submit comments on or before April 22, 2013.

ADDRESSES: Submit comments identified by Information Collection 9000-0056, Report of Shipment by any of the following methods:

• Regulations.gov: http://www.regulations.gov.

Submit comments via the Federal eRulemaking portal by searching the OMB control number. Select the link “Submit a Comment” that corresponds with “Information Collection 9000-0056, Report of Shipment”. Follow the instructions provided at the “Submit a Comment” screen. Please include your name, company name (if any), and “Information Collection 9000-0056, Report of Shipment” on your attached document.

• Fax: 202-501-4067.

• Mail: General Services Administration, Regulatory Secretariat (MVCB), 1275 First Street NE., Washington, DC 20417. ATTN: Hada Flowers/IC 9000-0056, Report of Shipment.

Instructions: Please submit comments only and cite Information Collection 9000-0056, Report of Shipment, in all correspondence related to this collection. All comments received will be posted without change to http://www.regulations.gov, including any personal and/or business confidential information provided.

FOR FURTHER INFORMATION CONTACT: Mr. Curtis E. Glover, Sr., Procurement Analyst, Office of Acquisition Policy, by telephone at (202) 501-1448 or curtis.glover@gsa.gov.

SUPPLEMENTARY INFORMATION:

A. Purpose

Per FAR 47.208, military (and, as required, civilian agency) storage and distribution points, depots, and other receiving activities require advance notice of shipments en-route from contractors' plants. Generally, this notification is required only for classified material; sensitive, controlled, and certain other protected material; explosives, and some other hazardous materials; selected shipments requiring movement control; or minimum carload or truckload shipments. It facilitates arrangements for transportation control, labor, space, and use of materials handling equipment at destination. Also, timely receipt of notices by the consignee transportation office precludes the incurring of demurrage and vehicle detention charges. Unless otherwise directed by a contracting officer, a contractor shall send the notice to the consignee transportation office at least twenty-four hours before the arrival of the shipment.

B. Annual Reporting Burden

There is no centralized database in the Federal Government that maintains information regarding advance notice of shipments of classified material; sensitive, controlled, and certain other protected material; explosives, and some other hazardous materials; selected shipments requiring movement control; or minimum carload or truckload shipments en-route from contractor's plants. No public comments were received in prior years that have challenged the validity of the Government's estimates. Based on the number of unique vendors awarded contracts for Fiscal Year 2011 in the Federal Procurement Data System, the estimated respondents required to submit the Report of Shipment notice make up less than one-quarter percent of the total number unique vendors awarded contracts. Additionally, consultation with Government subject matter experts did not yield information to warrant a revision to the estimate. The estimated annual reporting burden remains unchanged.

Respondents: 250.

Responses per Respondent: 4.

Annual Responses: 1,000.

Hours per Response: 167.

Total Burden Hours: 167.

Obtaining Copies of Proposals: Requesters may obtain a copy of the information collection documents from the General Services Administration, Regulatory Secretariat (MVCB), 1275 First Street NE., Washington, DC 20417, telephone (202) 501-4755. Please cite OMB Control No. 9000-0056, Report of Shipment, in all correspondence.

Dated: February 13, 2013.
William Clark,
Acting Director, Federal Acquisition Policy Division, Office of Governmentwide Acquisition Policy, Office of Acquisition Policy, Office of Governmentwide Policy.

[FR Doc. 2013-03871 Filed 2-19-13; 8:45 am]

BILLING CODE 6820-EP-P